DEPARTMENT OF THE INTERIOR

National Park Service

[NPS-WASO-NRNHL-16592; PPWOCRADI0, PCU00RP14.R50000]

National Register of Historic Places; Notification of Pending Nominations and Related Actions

Nominations for the following properties being considered for listing or related actions in the National Register were received by the National Park Service before August 23, 2014. Pursuant to section 60.13 of 36 CFR Part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th floor, Washington, DC 20005; or by fax, 202-371-6447. Written or faxed comments should be submitted by October 8, 2014. Before including your address, phone number, email address, or other personal identifying information in your comment, you should be aware that your entire comment—including your personal identifying information—may be made publicly available at any time. While you can ask us in your comment to withhold your personal identifying information from public review, we cannot guarantee that we will be able to do so.

Dated: September 3, 2014.
J. Paul Loether,
Chief, National Register of Historic Places/National Historic Landmarks Program.

ARIZONA

Coconino County

Negrette House, 120 S. 6th St., Williams, 14000823

CALIFORNIA

Amador County

Swain, C.W., House, 311 Church & 330 Buena Vista Sts., Ione, 14000824

DELAWARE

Kent County

St. Stephen's P.E. Church, 110 Fleming St., Harrington, 14000825

FLORIDA

Lee County

Pine—Aire Lodge, 13771 Waterfront Dr., Boleela, 14000826

Palm Beach County

Old Belle Glade Town Hall, 33 W. Ave. A, Belle Glade, 14000827

KANSAS

Butler County

Whitewater Falls Stock Farm, (Agriculture-Related Resources of Kansas MPS) 433 Falls Rd., Towanda, 14000828

Douglas County

Martin, Handel T., House, (Lawrence, Kansas MPS) 1709 Louisiana St., Lawrence, 14000830

Lane County

Schwartz, Alexander & Anna, Farm, (Agriculture-Related Resources of Kansas MPS) 57 E. Rd. 70, Dighton, 14000829

Montgomery County

First Congregational Church, 400 N. 9th St., Independence, 14000831

Sedgwick County

Derby Public School—District 6, (Public Schools of Kansas MPS) 716 E. Market St., Derby, 14000832

Shawnee County

Masonic Grand Lodge Building, 320 SW. 8th Ave., Topeka, 14000833

MAINE

Kennebec County

Colonial Theater, 139 Water St., Augusta, 14000834

Winthrop Mills Company, 149-151 Main St., Winthrop, 14000835

Knox County

Union Meeting House, (Appleton), 2875 Sennebec Rd., Appleton, 14000836

Lincoln County

Sprucewold Lodge, 4-9 Nahandra Rd., Boothbay Harbor, 14000837

Penobscot County

Brewer High School, (former), 5 Somerset St., Brewer, 14000838

MARYLAND

Prince George's County

Hard Bargain Farm, 2001 Bryan Point Rd., Accokeek, 14000839

MASSACHUSETTS

Suffolk County

Home for Destitute Jewish Children, 150-156 American Legion Hwy., Boston, 14000840

Worcester County

Upland State Forest—Civilian Conservation Corps Resources Historic District, 205 Westborough Rd., Upton, 14000841

NEW HAMPSHIRE

Carroll County

Pointfield, (Squam MPS) 14 Sabine Point Rd., Sandwich, 14000842

Grafton County

Shepard Hill Historic District, (Squam MPS) 109, 135, 177, 180, 200 Shepard Hill, 6, 19, 31, 33, 35, 41 Coxboro & all of Asquam Rds., 584 US 3, Holderness, 14000843

Rockingham County

Bartlett—Cushman House, 82 Portsmouth Ave., Stratham, 14000844

NEW YORK

Dutchess County

Zion Pilgrim Methodist Episcopal Church, 303 Baxtertown Rd., Fishkill, 14000845

OREGON

Multnomah County

Hanthorn Apartments, 1125 SW. 12th Ave., Portland, 14000846

UTAH

Salt Lake County

International Peace Gardens, 1060 S. 900 W., Salt Lake City, 14000847

WASHINGTON

Clallam County

Tse whit zen Village, Address Restricted, Port Angeles, 14000848

Jefferson County

Hamilton—Worthington House, 101 E. Columbia St., Quilcene, 14000849

A request for removal has been received for the following resource:

IOWA

Linn County

Brewer, Luther A. and Elinore T., House, 847 4th Ave. SE., Cedar Rapids, 98000383

[FR Doc. 2014-22534 Filed 9-22-14; 8:45 am]

BILLING CODE 4312-51-P